DEPARTMENT OF COMMERCE

National Oceanic and Atmospheric Administration

RIN 0648-XM91

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council), its Protected Resources Committee, its Annual Catch Limit/Accountability Measures (ACL/AM) Committee, its Law Enforcement Committee, its Research Set-Aside (RSA) Committee, its Ecosystems/Ocean Planning Committee, its Surfclam/Ocean Quahog Committee, its Squid, Mackerel, Butterfish Committee, and its Executive Committee will hold public meetings.

DATES: Wednesday, February 11, 2009 through Friday, February 13, 2009. On Wednesday, February 11 the Protected Resources Committee with its Advisors will meet from 8:30 a.m. until 10:30 a.m. The ACL/AM Committee will meet from 10:30 a.m. until noon. The Law Enforcement Committee will meet from 1:00 p.m. until 2:30 p.m. The RSA Committee will meet from 2:30 p.m. until 4:00 p.m. The Ecosystems/Ocean Planning Committee will meet from 4:00 p.m. until 5:30 p.m. There will be a scoping session for Amendment 14 to the Surfclam/Ocean Quahog FMP on Wednesday evening from 7:00 p.m. until 9:00 p.m.

On Thursday, February 12 the Surfclam/Ocean Quahog Committee will meet from 8:00 a.m. until 9:00 a.m. The Squid, Mackerel, Butterfish Committee will meet from 9:00 a.m. until 10:00 a.m. The Council will convene at 10:00 a.m. and from 10:00 a.m. until 11:00 a.m. will conduct its regular business session and receive organizational reports. From 11:00 a.m. until noon, the Council will receive a report regarding annual discards for 2008 and standardized bycatch reporting methodology prioritization for 2009. From 1:00 p.m. until 1:15 p.m. there will be an award presentation and recognition. From 1:15 p.m. until 2:00 p.m. the Council will receive a report on the Northeast Data Poor Stocks Workshop. From 2:00 p.m. until 5:30 p.m. there will be a public workshop on reducing butterfish bycatch in the Loligo fishery. On Friday, February 13 the Executive Committee will meet from 9:00 a.m. until 10:00 a.m. From 10:00 a.m. until noon the Council will receive a report on Status of Fishery Management Plans, the Executive Director's Report, Committee Reports, Liaison Report and discuss any continuing and new business.

ADDRESSES: Seaview Marriott Resort and Spa, 401 South New York Road, Galloway, NJ 08205; telephone: 609-652-1800.

Council Address: Mid-Atlantic Fishery Management Council, 300 S. New St., Room 2115, Dover, DE 19904; telephone: 302-674-2331.

FOR FURTHER INFORMATION CONTACT: Daniel T. Furlong, Executive Director, Mid-Atlantic Fishery Management Council; telephone: 302-674-2331 ext. 19.

SUPPLEMENTARY INFORMATION: Agenda items by day for the Council's Committees and the Council itself are: Wednesday, February 11 - the Protected Resources Committee with Advisors will discuss an industry request to modify the Bottle Nose Dolphin Take Reduction Team (TRT) Plan by adding one month to the current “tending requirement” period for medium gillnet fisheries and review and discuss Atlantic Trawl TRT strategy for pilot whales and common dolphin. The ACL/AM Committee will review and discuss the NMFS' Final Rule on ACL/AM, review and discuss table of current Council control rules, and address the action plan and associated timeline for implementation. The Law Enforcement Committee will discuss regulatory implications of transfer-at-sea authorizations, discuss regulatory implication of monitoring other than a daily trip limit in party/charter boat fisheries, and address implication of Maine's study/report on fixed gear vertical line locations and densities. The RSA Committee will convene a public fact finding and receive comments on the Council's RSA program. The Ecosystems/Ocean Planning Committee will receive a report on the Northeast Fisheries Science Center's (NEFSC) recent efforts regarding development of an ecosystem based approach to fishery management and develop the Committee's work plan for 2009. An evening scoping session for Amendment 14 to the Surfclam/Ocean Quahog FMP will be held to solicit the public's ideas about needed changes to the FMP.

Thursday, February 12 - the Surfclam/Ocean Quahog Committee will review and discuss scoping comments to decide and adopt management measures to be included in Amendment 14. The Squid, Mackerel, and Butterfish Committee will review and discuss the outcome of the January Committee meeting to determine and select (if possible) preferred alternatives for Council consideration and inclusion in the Public Hearing document for Amendment 11. The Council will convene for its regular business session to receive various reports including a report by Dr. Rago (NMFS NEFSC) on “Annual Discard Report for 2008 and the Standardized Bycatch Reporting Methodology Prioritization for 2009” and a report by Dr. Weinberg (NMFS NEFSC) on the outcome of the Northeast Data Poor Workshop which included scup and black sea bass among others, the Council will also present its Fisheries Achievement Award. A public workshop will be held in the afternoon to encourage early adoption of voluntary fishing practices to reduce butterfish bycatch in the Loligo squid fishery. Discussion items will include: potential effects of implementation of Amendment 10 which would establish a butterfish bycatch mortality cap for the Loligo squid fishery in 2011, possible mitigation actions to avoid future closures of the Loligo fishery owing to attainment of the butterfish mortality cap. Current Loligo fishing practices will be reviewed with the intent to identify practices that contribute to butterfish bycatch. Information and data will be presented as catalysts for discussion purposes regarding problem identification and possible solutions. Friday, February 13 - the Executive Committee will review the outcome of the State-Federal Alignment Work Group meeting, receive results from Scientific and Statistical Committee (SSC) actions, and review the agenda for the Council Coordination Committee. The Council will receive a report on Status of MAFMC's FMPs, the Executive Director's report, Committee reports, and any continuing and new business.

Although non-emergency issues not contained in this agenda may come before the Council for discussion, these issues may not be the subject of formal Council action during this meeting. Council action will be restricted to those issues specifically listed in this notice and any issues arising after publication of this notice that require emergency action under Section 305(c) of the Magnuson-Stevens Act, provided the public has been notified of the Council's intent to take final action to address such emergencies.

Special Accommodations

This meeting is physically accessible to people with disabilities. Requests for sign language interpretation or other auxiliary aid should be directed to M. Jan Bryan (302-674-2331 ext 18) at least five days prior to the meeting date.

Dated: January 21, 2009
Tracey L. Thompson,
Acting Director, Office of Sustainable Fisheries, National Marine Fisheries Service.

[FR Doc. E9-1570 Filed 1-23-09; 8:45 am]

BILLING CODE 3510-22-S